DEPARTMENT OF THE INTERIOR

Information Collection Sent to the Office of Management and Budget (OMB) for Approval; National Geospatial Program: The National Map

AGENCY: U.S. Geological Survey, Interior.

ACTION: Notice of an extension of an Information Collection (1028-0092).

SUMMARY: We (the U.S. Geological Survey) have sent an Information Collection Request (ICR) to OMB for review and approval. The ICR, which is summarized below, describes the nature of the collection and the estimated burden and cost. As required by the Paperwork Reduction Act of 1995 (PRA) we may not conduct or sponsor and a person is not required to respond to a collection of information unless it displays a currently valid OMB control number.

DATES: You must submit comments on or before May 27, 2010.

ADDRESSES: Send your comments and suggestions on this information collection to the Desk Officer for the Department of Interior at OMB-OIRA at (202) 395-5806 (fax) or OIRA_DOCKET@OMB.eop.gov (e-mail). Please provide a copy of your comments to Phadrea Ponds, USGS Information Collection Clearance Officer, 2150-C Center Avenue, Fort Collins, CO 80525 (mail); (970) 226-9230 (fax); or pponds@usgs.gov (e-mail). Use OMB Control Number 1028-0092 in the subject line.

FOR FURTHER INFORMATION CONTACT: To request additional information please contact Teresa Dean by telephone at (703) 648-4825 or tdean@usgs.gov (e-mail).

SUPPLEMENTARY INFORMATION:

I. Abstract

The USGS will provide funding for the collection of orthoimagery and elevation data. We will accept applications from State, local, or tribal governments; nonprofit, nongovernmental organizations; and academic institutions to advance the development of The National Map and other national geospatial databases. This effort will support our need to supplement ongoing data collection activities to respond to an increasing demand for more accurate and current elevation data and orthoimagery. Respondents will submit applications and project narrative via Grants.gov. Grant recipients must complete quarterly reports and a final technical report at the end of the project period. All application instructions and forms are available on the Internet through Grants.gov (http://www.grants.gov). Hard/paper submissions and electronic copies submitted via e-mail will not be accepted under any circumstances. All reports will be accepted electronically via e-mail.

II. Data

OMB Control Number: 1028-0092.

Title: National Geospatial Program: The National Map.

Type of Request: Extension of a currently approved collection.

Respondent Obligation: Required to obtain or retain a benefit.

Frequency of Collection: Applications are submitted in response to a NOFA; reports are submitted quarterly and at the end of the project period.

Description of Respondents: State, local, and tribal governments; private and non-profit firms; and academic institutions.

Estimated Number of Annual Responses: 175 (75 applications, 80 quarterly reports and 20 final reports).

Estimated Annual Reporting and Recordkeeping “Hour” Burden: 4,780 hours. We expect to receive approximately 75 applications. It will take each applicant approximately 60 hours to complete the narrative and prepare supporting documents. This includes the time for project conception and development, proposal writing, reviewing, and submitting the proposal application through Grants.gov (totaling 4,500 burden hours). We anticipate awarding 20 grants per year. The award recipients must submit quarterly and final reports during the project. Within 7 days of the beginning of each quarter, a report must be submitted summarizing the previous quarter's progress. The quarterly report will take at least 1 hour to prepare (totaling 80 burden hours). A final report must be submitted within 90 calendar days of the end of the project period. We estimate that it will take approximately 10 hours to complete a final report (totaling 200 hours).

Estimated Reporting and Recordkeeping “Non-Hour Cost” Burden: There are no “non-hour cost” burdens associated with this collection of information.

III. Request for Comments

On December 30, 2009, we published a Federal Register notice (74 FR 69134) announcing that we would submit this ICR to OMB for approval and soliciting comments. The comment period closed on March 1, 2010. We did not receive any comments in response to that notice.

We again invite comments concerning this ICR on: (a) Whether the proposed collection of information is necessary for the agency to perform its duties, including whether the information is useful; (b) the accuracy of the agency's estimate of the burden of the proposed collection of information; (c) ways to enhance the quality, usefulness, and clarity of the information to be collected; and (d) ways to minimize the burden on the respondents, including the use of automated collection techniques or other forms of information technology.

Comments that you submit in response to this notice are a matter of public record. Before including your address, phone number, e-mail address or other personal identifying information in your comment, you should be aware that your entire comment including your personal identifying information, may be made publicly available at anytime.

While you can ask us in your comment to withhold your personal identifying information from public review, we cannot guarantee that we will be able to do so.

Dated April 21, 2010,
Julia Fields,
Deputy Director, National Geospatial Program.

[FR Doc. 2010-9698 Filed 4-26-10; 8:45 am]

BILLING CODE 4311-AM-P